DEPARTMENT OF TRANSPORTATION

Office of the Secretary

Notice of Applications for Certificates of Public Convenience and Necessity and Foreign Air Carrier Permits Filed Under Subpart B (Formerly Subpart Q) During the Week Ending August 27, 2004

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-18980.

Date Filed: August 25, 2004.

Due Date for Answers, Conforming Applications, or Motion to Modify Scope: September 15, 2004.

Description: Application of St. Barth Commuter requesting a foreign air carrier permit authorizing it to engage in the carriage of persons, property and mail in charter foreign air transportation between St. Martin, St. Barthelemy, Guadeloupe and Martinique in the French West Indies and San Juan, Puerto Rico and St. Croix and St. Thomas in the U.S. Virgin Islands.

Docket Number: OST-2004-18974.

Date Filed: August 25, 2004.

Due Date for Answers, Conforming Applications, or Motion to Modify Scope: September 15, 2004.

Description: Application of Paradigm Air, Inc. requesting a certificate of public convenience and necessity to authorize it to engage in interstate charter air transportation of persons, property, and mail.

Docket Number: OST-2004-18976.

Date Filed: August 25, 2004.

Due Date for Answers, Conforming Applications, or Motion to Modify Scope: September 15, 2004.

Description: Application of Paradigm Air, Inc. requesting a certificate of public convenience and necessity to authorize it to engage in foreign charter air transportation of persons, property and mail between any point or points in the United States, its territories and possessions, or the District of Columbia, and any other point or points outside the United States, its territories and possessions. Paradigm Air also seeks the right to hold itself out and trade as “Paradigm Air.”

Andrea M. Jenkins,
Program Manager, Docket Operations, Federal Register Liaison.

[FR Doc. 04-20326 Filed 9-7-04; 8:45 am]

BILLING CODE 4910-62-P